DEPARTMENT OF ENERGY

Federal Energy Regulatory Commission

[Docket No. RP01-413-001]

East Tennessee Natural Gas Company; Notice of Compliance Filing

June 26, 2001.

Take notice that on June 21, 2001, East Tennessee Natural Gas Company (East Tennessee) tendered for filing as part of its FERC Gas Tariff, Second Revised Volume No. 1, the following tariff sheets, to be effective on June 7, 2001:

Sub Seventh Revised Sheet No. 111

Sub Second Revised Sheet No. 111A

East Tennessee states that the purpose of this filing is to comply with the directives of the Commission's Letter Order dated June 6, 2001, in Docket No. RP01-413-000 (June 6 Order).

East Tennessee states that, on May 7, 2001, revised tariff sheets were filed in this docket in order to permit customers to electronically request service and execute service agreements via the LINKr System.

East Tennessee states that the June 6 Order accepted certain of the tariff sheets in East Tennessee's May 7 tariff filing effective June 7, 2001, and required that East Tennessee file, as necessary, revised tariff sheets implementing the electronic version of the service request form on East Tennessee's website and reflecting the elective nature of the electronic process.

East Tennessee states that copies of its filing have been mailed to all affected customers and interested state commissions.

Any person desiring to protest said filing should file a protest with the Federal Energy Regulatory Commission, 888 First Street, NE., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16506 Filed 6-29-01; 8:45 am]

BILLING CODE 6717-01-M